DEPARTMENT OF COMMERCE

Office of the Secretary

[Docket No. 130730666-3666-01]

Privacy Act of 1974: System of Records

AGENCY: Department of Commerce.

ACTION: Notice of proposed amendment to Privacy Act System of Records: “COMMERCE/DEPARTMENT-20, Biographical Files”

SUMMARY: In accordance with the Privacy Act of 1974, as amended, the Department of Commerce proposes to amend the system of records entitled “COMMERCE/DEPARTMENT-20, Biographical Files,” to include social network sites, which will provide Department of Commerce employees new ways to connect and share information, and solicit and receive feedback freely with the public; change the name of the system of records to “Biographical Files and Social Networks”; update routine uses; update practices for electronically storing, retrieving, and safeguarding records in the System; and generally update the system's notice. We invite public comment on the amended system announced in this publication.

DATES: To be considered, written comments must be submitted on or before October 4, 2013. Unless comments are received, the new system of records will become effective as proposed on the date of publication of a subsequent notice in the Federal Register.

ADDRESSES: Comments may be mailed to Lanetta Gray, U.S. Department of Commerce, Office of the General Counsel, Room 5875 HCHB, 1401 Constitution Avenue NW., Washington, DC 20230.

FOR FURTHER INFORMATION CONTACT: Lanetta Gray, Executive Officer, Office of the General Counsel, 202-482-4683.

SUPPLEMENTARY INFORMATION:

The purpose of this amendment is to add social networking to the system of records. Internal social networking through collaborative software will allow Department of Commerce employees to interact with one another by providing new ways to connect and share information. The collected information will be used to enable collaboration, referrals, referencing, and networking among employees utilizing the system. External social networking will allow the Department of Commerce to interact with the public using third party or commercial social media applications. These applications facilitate the sharing of information and ideas between the Department of Commerce and the public. While the Department of Commerce may use social media applications to connect with the public in an official capacity, information provided by an individual to register with the third party site is rarely shared with the Department. Information collected and stored by the social media applications is subject to the third party privacy policies posted on their Web sites. The Department of Commerce may receive contact information from the third party site for individuals who wish to have further contact with the Department for additional communications such as dissemination of information for an upcoming event, to notify the public of an emergency or breaking news, or to solicit feedback about a program. The Department may also receive user names or emails for individuals who have commented or submitted information on a Department of Commerce section on a social media Web site. The Department may also receive information indirectly from social media site as part of specific programs or initiatives. The Department may use social media applications to share information with the public, to collect ideas and comments submitted by the public, and to promote participation and collaboration with the public. If the Department is requesting feedback from the public through the use of a social media site, an alternative Department of Commerce email address will also be provided so that the public may interact with the Department without having to use the social media site. When an individual submits an email directly to the Department, the Department will maintain the individual's email, and any other personal information provided in their email, in accordance with applicable records retention policy. All interactions by the public are voluntary.

COMMERCE/DEPARTMENT-20

System Name:

COMMERCE/DEPARTMENT-20, Biographical Files and Social Networks

Security Classification:

None

System Location:

a. For Secretarial Officers and senior-level officials, and employees of the Office of the Secretary: Office of Public Affairs, U.S. Department of Commerce, 1401 Constitution Avenue NW., Washington, DC 20230.

b. For Secretarial Officers and senior-level officials included in Biographical Resumes of Key Officials and social media: Office of Human Resources Management, and Chief Financial Officer for Administration and Assistant Secretary for Administration; all Office of the Secretary, U.S. Department of Commerce, 1401 Constitution Avenue NW., Washington, DC 20230.

c. For U.S. Census Bureau, Office of Public Affairs, 4600 Silver Hill Road, Suitland, MD

d. For Bureau of Economic Analysis/Economic Statistics Administration, U.S. Department of Commerce, 1401 Constitution Avenue NW., Washington, DC 20230.

e. For Economic Development Administration, Office of Public Affairs, U.S. Department of Commerce, 1401 Constitution Avenue NW., Washington, DC 20230.

f. For Bureau of Industry and Security, U.S. Department of Commerce, 1401 Constitution Avenue NW., Washington, DC 20230.

g. For employees of International Trade Administration: Office of Public Affairs, International Trade Administration, U.S. Department of Commerce, 1401 Constitution Avenue NW., Room 3416, Washington, DC 20230.

h. For members of advisory committees within International Trade Administration: Office of Advisory Committee, Manufacturing and Services, International Trade Administration, U.S. Department of Commerce, 1401 Constitution Avenue NW., Room 4036, Washington, DC 20230.

i. For Minority Business Development Agency, Office of Public Affairs, U.S. Department of Commerce, 1401 Constitution Avenue NW., Washington, DC 20230.

j. For senior management and select employees of National Institute of Standards and Technology (Gaithersburg and Boulder): Public and Business Affairs Office, National Institute of Standards and Technology, Administration Building, 100 Bureau Drive, Gaithersburg, MD 20899.

k. For National Technical Information Service, 5301 Shawnee Road, Alexandria, VA 22312.

l. For National Telecommunications and Information Administration, Chief Information Officer, 1401 Constitution Avenue NW., Washington, DC 20230.

m. For employees of National Oceanic and Atmospheric Administration: NOAA headquarters locations: Office of Communications & External Affairs, U.S. Department of Commerce, 1401 Constitution Avenue NW., Room A100, Washington, DC 20230, and/or NOAA field offices, the principal addresses of which are:

NOAA, National Marine Fisheries Service, 1315 East-West Highway, SSMC3, Silver Spring, MD 20910.

NOAA, National Ocean Service, 1305 East-West Highway, SSMC4, Silver Spring, MD 20910.

NOAA, National Weather Service, 1325 East-West Highway, SSMC2, Silver Spring, MD 20910.

NOAA, Office of Oceanic and Atmospheric Research, 1315 East-West Highway, SSMC3, Silver Spring, MD 20910.

NOAA, Office of Oceanic and Atmospheric Research, Earth System Research Laboratory, David Skaggs Research Center, 325 Broadway, Boulder, CO 80305-3337.

n. For U.S. Patent and Trademark Office, 600 Dulany Street, Madison Building, Alexandria, VA 22314.

o. For Office of Inspector General, Office of Administration, U.S. Department of Commerce, 1401 Constitution Avenue NW., Washington, DC 20230.

p. Social media outreach, and internal collaborative network records contained in these systems of records are maintained by the Bureau or Office conducting the social media outreach.

1. For Office of the Secretary, 1401 Constitution Avenue NW., Washington, DC 20230.

2. For U.S. Census Bureau, 4600 Silver Hill Road, Suitland, MD 20746.

3. For Bureau of Economic Analysis/Economic Statistics Administration, 1401 Constitution Avenue NW., Washington, DC 20230.

4. For Economic Development Administration, 1401 Constitution Avenue NW., Washington, DC 20230.

5. For Bureau of Industry and Security, 1401 Constitution Avenue NW., Washington, DC 20230.

6. For International Trade Administration, 1401 Constitution Avenue NW., Washington, DC 20230.

7. For Minority Business Development Agency, Office of the Secretary, 1401 Constitution Avenue NW., Washington, DC 20230.

8. For National Institute of Standards and Technology, 100 Bureau Drive, Gaithersburg, MD 20899.

9. For National Technical Information Service, 5301 Shawnee Road, Alexandria, VA 22312.

10. For National Telecommunications and Information Administration, 1401 Constitution Avenue NW., Washington, DC 20230.

11. For National Oceanic and Atmospheric Administration, 1305 East-West Highway, SSMC3, Silver Spring, MD 20910.

12. For U.S. Patent and Trademark Office, 600 Dulany Street, Madison Building, Alexandria, VA 22314.

13. For Office of Inspector General, 1401 Constitution Avenue NW., Washington, DC 20230.

Social media sites may retain separate records from the Department.

The information in this system may be duplicated in other Privacy Act systems of the Commerce Department, in the systems maintained by the Office of Personnel Management, or in the immediate office of the individual to whom the biographical record pertains. For assistance in this regard, contact the Director, Office of Human Resources Management, U.S. Department of Commerce, Washington, DC 20230.

Categories of Individuals Covered by the System:

Present and former Department personnel, and members of advisory committees. Individuals who interact with the Department of Commerce through various social media outlets, who submit feedback to the Department of Commerce, who correspond with the Department as a result of the Department's outreach using social networks, or who wish to be contacted by the Department as part of an outreach effort.

Categories of Records in the System:

Biographical information which may include, but is not limited to: Date and place of birth; education; military service; present position; employment history; field of research; publications; inventions and patents; awards and honor; memberships and business or volunteer affiliations; present and past residences; telephone numbers; email; names; ages; and addresses of family members; hobbies and outside interest; photograph of individual; username; home address; work address; security questions, IP addresses, passwords, contact information, financial data, and input and feedback from the public, such as but not limited to comments, videos, and images, which may include tags, geotags or geographical metadata.

Authority for Maintenance of the System:

5 U.S.C. 301; 5 U.S.C. App.—Inspector General Act of 1978, section 2; 5 U.S.C. App.—Reorganization Plan of 1970, section 2; 13 U.S.C. section 2; 13 U.S.C. section 131; 15 U.S.C. section 272; 15 U.S.C. section 1151; 15 U.S.C. section 1501; 15 U.S.C. section 1512; 15 U.S.C. section 1516; 15 U.S.C. section 3704b; 16 U.S.C. section 1431; 35 U.S.C. section 2; 42 U.S.C. section 3121 et seq.; 44 U.S.C. 3101 and Reorganization Plan No. 5 of 1950; 47 U.S.C. section 902; 50 U.S.C. App. section 2401 et seq.; E.O. 11625; 77 FR 49699; Presidential Memorandum to the Heads of Executive Departments and Agencies on Transparency and Open Government, January 21, 2009; OMB Open Government Directive, M-10-06, December 8, 2009; OMB Guidance for Online Use of Web Measurement and Customization Technologies, M-10-22, June 25, 2010, OMB Guidance for Agency Use of Third-Party Web sites and Applications, M-10-23, June 25, 2010.

Purpose(s):

The purpose of this system is to allow for collection of biographical information for present and former Department personnel, and members of advisory committees; and to allow Department of Commerce employees to interact with one another on internal Department networking platforms that allow them to share biographical and/or personal information and to allow the Department of Commerce to interact with the public and provide additional transparency to the public through the use of social media. Registration information, username, comments, and suggestions made by the public on third party social networks where the Department has an official presence may be collected by third party social networks for registration or use of social media sites. Information and comments provided may be shared with the Department of Commerce to facilitate interaction with the public, to disseminate information regarding an upcoming event, to notify the public of an emergency or breaking news, or solicit feedback about Department programs. The Department of Commerce may also receive information directly from individuals who provide feedback from social media outreach using alternate methods, such as an email directly to the Department, a form on a Department of Commerce Web page, or comments on a Department of Commerce blog.

Routine uses of records maintained in the system, including categories of users and the purposes of such uses:

These records may be disclosed as follows:

1. In the event that a system of records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, state, local or foreign, charged with the responsibility of investigating or prosecuting such violation or charged with enforcing or implementing the statute or contract, or rule, regulation or order issued pursuant thereto, or protecting the interest of the Department.

2. A record from this system of records may be disclosed to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

3. A record from this system of records may be disclosed to a Federal, state, local or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

4. A record from this system of records may be disclosed in the course of presenting evidence to a court, magistrate or administrative tribunal, including disclosures to opposing counsel in the course of settlement negotiations.

5. A record in this system of records may be disclosed to a Member of Congress submitting a request involving an individual when the individual has requested assistance from the Member with respect to the subject matter of the record.

6. A record from this system of records may be disclosed to the Department of Justice in connection with determining whether disclosure thereof is required by the Freedom of Information Act 5 U.S.C. 552.

7. A record from this system of records may be disclosed to a contractor of the Department having need for the information in the performance of the contract, but not operating a system of records within the meaning of 5 U.S.C. 552a(m).

8. A record from this system of records may be disclosed to the National Archives and Records Administration or to the Administrator, General Services, or his designee during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

9. A record in this system of records may be disclosed, as a routine use, to appropriate agencies, entities, and persons when (1) It is suspected or determined that the security or confidentiality of information in the system of records has been compromised; (2) the Department has determined that as a result of the suspected or confirmed compromise there is a risk of harm to economic or property interests, identify theft or fraud, or harm to the security or integrity of this system or other systems or programs (whether maintained by the Department or another agency or entity) that rely upon the compromised information; and (3) the disclosure made to such agencies, entities, and persons is reasonably necessary to assist in connection with the Department's efforts to respond to the suspected or confirmed compromise and to prevent, minimize, or remedy such harm.

10. A record in this system of records may be disclosed to the news media, other government agencies, and the general public for use in connection with written articles, oral interviews, speaking engagements, retirement and obituary notices, and other purposes of public information, except to the extent it is determined that release of the specific information in the context of a particular case would constitute an unwarranted invasion of personal privacy.

11. A record in this system of records that was collected on a Department internal collaborative network may be shared with other Department employees on the platform for networking and collaboration purposes, consistent with the terms of use of any such networking platform.

Policies and Practiced for Storing, Retrieving, Accessing, Retaining and Disposing of Records in the System:

Storage:

Paper records are contained in file folders stored in file cabinets; electronic records are contained in removable drives, computers, email and electronic databases.

Retrievability:

Paper records may be retrieved alphabetically by name or by position or work unit. Electronic records may be retrieved by full-text search, name, image, video, email address, user name, or date received.

Safeguards:

Records in this system are safeguarded in accordance with applicable security rules and policies. Paper records are kept in locked cabinets in secure facilities and access to them is restricted to individuals whose official duties require access. Access to the servers containing the records in this system is limited to personnel who have the need to know the information for the performance of their official duties. The computer servers in which records are stored are located in facilities with access codes, security codes, and security guards. Access to networks and data requires a valid username and password.

Retention and Disposal:

Records are retained and disposed of in accordance with records schedules approved by the National Archives and Records Administration.

System Manager(s) and Address:

Use the same address as listed in System Location section above.

For records at location a: Director, Office of Public Affairs.

For records at location b: Director, Office of Human Resources Management.

For records at location c: Director, U.S. Census Bureau.

For records at location d: Director, Office of Public Affairs, Bureau of Economic Analysis/Economic Statistics Administration.

For records at location e: Director, Office of Public Affairs, Economic Development Administration.

For records at location f: Director, Office of Public Affairs, Bureau of Industry and Security.

For records at location g: Director, Office of Public Affairs, International Trade Administration.

For records at location h: Director, Office of Advisory Committees, International Trade Administration.

For records at location i: Director, Office of Public Affairs, Minority Business Development Agency.

For records at location j: Director, Office of Public and Business Affairs, National Institute of Standards and Technology.

For records at location k: Director, Office of Public Affairs, National Technical Information Service.

For records at location l: Office of the Chief Information Officer, National Telecommunications and Information Administration.

For records at location m: Director, Office of Public Affairs, National Oceanic and Atmospheric Administration.

For records at location n: Director, Office of Public Affairs, U.S. Patent and Trademark Office.

For records at location o: Director of Human Resources Management, Office of Administration, Office of Inspector General.

For records at location p: use addresses listed 1-13 in the System Location above.

Notification Procedures:

An individual requesting notification of the existence of records on himself or herself should send a signed, written inquiry to the U.S. Department of Commerce, Freedom of Information and Privacy Act Office. The request letter should be clearly marked “PRIVACY ACT REQUEST.” The written inquiry must be signed and notarized or submitted with certification of identity under penalty of perjury. Requesters should reasonable specify the record contents being sought.

Record Access Procedures:

An individual requesting access to records on himself or herself should send a signed, written inquiry to the U.S. Department of Commerce, Freedom of Information and Privacy Act Office. The request letter should be clearly marked “PRIVACY ACT REQUEST.” The written inquiry must be signed and notarized or submitted with certification of identity under penalty of perjury. Requesters should reasonable specify the record contents being sought.

Contesting Records Procedures:

An individual requesting corrections or contesting information contained in his or her records must send a signed, written request to the Departmental Privacy Act Officer, U.S. Department of Commerce, Office of Privacy and Open Government, Room A300, 1401 Constitution Avenue NW., Washington, DC 20230. Requesters should reasonably identify the record, specify the information they are contesting and state the corrective action sought and the reasons for the correction with supporting justification showing how the record is incomplete, untimely, inaccurate, or irrelevant.

Record Source Categories:

Subject individuals; individuals who interact with the Department of Commerce through social media networks or as a result of public outreach.

Exemptions Claimed for the System:

None.

Dated: August 29, 2013.
Brenda Dolan,
Department of Commerce, Freedom of Information and Privacy Act Officer.

[FR Doc. 2013-21435 Filed 9-3-13; 8:45 am]

BILLING CODE 3510-BW-P